NATIONAL ARCHIVES AND RECORDS ADMINISTRATION

[NARA-2016-025]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by May 2, 2016. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it too includes information about the records. You may request additional information about the disposition process at the addresses above.

Schedules Pending

1. Department of Agriculture, Farm Service Agency (DAA-0145-2015-0016, 2 items, 2 temporary items). Records related to base acre, yield updates, and agricultural risk and price loss coverage, including case files and rejected/withdrawn applications.

2. Department of Agriculture, Farm Service Agency (DAA-0145-2015-0017, 3 items, 3 temporary items). Records related to the margin protection program for dairy farmers, including case files and rejected/withdrawn applications.

3. Department of Defense, Defense Threat Reduction Agency (DAA-0374-2014-0036, 1 item, 1 temporary item). Records related to packing, boxing, and crating material for preservation or long term storage.

4. Department of Defense, Defense Threat Reduction Agency (DAA-0374-2014-0046, 1 item, 1 temporary item). Index of records related to construction and engineering projects.

5. Department of Defense, Defense Threat Reduction Agency (DAA-0374-2015-0002, 1 item, 1 temporary item). Records related to oversight of human and animal research including proposals, board certifications, and review and approval documentation.

6. Department of Defense, Office of the Secretary of Defense (DAA-0330-2015-0010, 2 items, 2 temporary items). Master files and associated metadata of an electronic information system used to track Equal Employment Opportunity investigations and resolutions.

7. Department of Health and Human Services, Administration for Children and Families (DAA-0292-2016-0002, 2 items, 1 temporary item). Records related to the issuance of press releases, including background papers, news clippings, program activities, and reference materials. Proposed for permanent retention are press releases.

8. Department of Health and Human Services, Administration for Children and Families (DAA-0292-2016-0006, 12 items, 9 temporary items). Records related to Federal grant programs, including penalty determinations and resolutions, regulation files, briefing materials, and court case files. Proposed for permanent retention are final data reports, policy files, policy precedent final reports, and publications.

9. Department of Health and Human Services, Administration for Children and Families (DAA-0292-2016-0009, 2 items, 1 temporary item). Office-level delegations of authority records. Proposed for permanent retention are delegations of authority for senior management staff.

10. Department of Health and Human Services, Administration for Children and Families (DAA-0292-2016-0010, 6 items, 6 temporary items). Child support enforcement records including correspondence, memorandums, agreements, reports, and planning documents.

11. Department of Health and Human Services, Administration for Children and Families (DAA-0292-2016-0011, 4 items, 1 temporary item). Congressional reports related to the evaluation of tribal funding projects. Proposed for permanent retention are tribal consultation reports and paper and audio-visual records documenting Native American languages.

12. Department of Homeland Security, United States Citizenship and Immigration Services (DAA-0566-2016-0003, 1 item, 1 temporary item). Records related to pre-determination review of employer eligibility to file applications for individuals for certain employment-based visas.

13. Department of the Navy, Naval Nuclear Propulsion Program (DAA-0594-2015-0002, 1 item, 1 temporary item). Correspondence records related to the efficient operation of reactors and training and evaluation of personnel.

14. Department of Veterans Affairs, Veterans Health Administration (DAA-0015-2015-0005, 3 items, 3 temporary items). Records related to clinical psychology and mental hygiene including notes, tests, evaluations, and related materials in electronic health records.

15. Department of Veterans Affairs, Veterans Health Administration, (DAA-0015-2016-0002, 2 items, 2 temporary items). Records of studies to diagnose and treat sleep disorders.

16. General Services Administration, Federal Acquisition Service (DAA-0137-2015-0001, 17 items, 17 temporary items). Records related to supply catalog and contract specifications, schedules, and publication development; procurement support, supply, and stores; personal property services; travel, transportation, and motor vehicle services; telecommunication services; and administrative support.

17. General Services Administration, Office of the Inspector General (DAA-0269-2015-0002, 8 items, 7 temporary items). Routine case files, administrative files, working papers, and resource and reference material. Proposed for permanent retention are significant investigation, inspection, and audit case files.

18. Military Compensation and Retirement Modernization Commission, Agency-wide (DAA-0220-2016-0002, 8 items, 1 temporary item). Public Web site records. Proposed for permanent retention are reports, correspondence, congressional hearings, biographical information on the Commissioners, public comments and hearings, press releases and issuances.

19. Selective Service System, Agency-wide (DAA-0147-2015-0002, 4 items, 1 temporary item). Organization and mission-related draft correspondence and background materials. Proposed for permanent retention are planning files, organization charts, and public announcements.

Dated: March 23, 2016.
Laurence Brewer,
Director, Records Management Operations.

[FR Doc. 2016-07436 Filed 3-31-16; 8:45 am]

BILLING CODE 7515-01-P